DEPARTMENT OF TRANSPORTATION

Office of the Secretary

Aviation Proceedings, Agreements Filed the Week Ending February 18, 2005

The following Agreements were filed with the Department of Transportation under the provisions of 49 U.S.C. 412 and 414. Answers may be filed within 21 days after the filing of the application.

Docket Number: OST-2005-20422.

Date Filed: February 16, 2005.

Parties: Members of the International Air Transport Association.

Subject: PTC3 0825 dated 18 February 2005, Mail Vote 438—TC3 Japan Korea-South East Asia except between Korea (Rep. of) and Guam, Northern Mariana Islands Resolutions, PTC3 0826 dated 18 February 2005, Mail Vote 439—TC3 Japan, Korea-South East Asia between Korea (Rep. of) and Guam, Northern Mariana Islands Resolutions.

Intended effective date: 1 April 2005.

Renee V. Wright,
Acting Program Manager, Docket Operations, Alternate Federal Register Liaison.

[FR Doc. 05-4307 Filed 3-4-05; 8:45 am]

BILLING CODE 4910-62-P